NATIONAL AERONAUTICS AND SPACE ADMINISTRATION

[Notice (09-104)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: December 11, 2009.

FOR FURTHER INFORMATION CONTACT: Robert M. Padilla, Patent Counsel, Ames Research Center, Code 202A-4, Moffett Field, CA 94035-1000; telephone (650) 604-5104; fax (650) 604-2767.

NASA Case No. ARC-16331-1: Prediction of Visual Acuity from Wavefront Aberrations;

NASA Case No. ARC-16334-1: Estimation of Alga Growth Stage and Lipid Content Growth Rate;

NASA Case No. ARC-16235-1: Aircraft System Modeling Error and Control Error.

Dated: December 4, 2009.
Richard W. Sherman,
Deputy General Counsel.

[FR Doc. E9-29521 Filed 12-10-09; 8:45 am]

BILLING CODE P